DEPARTMENT OF LABOR

Occupational Safety and Health Administration

National Advisory Committee on Occupational Safety and Health; Notice of Meeting

Correction

In notice document 04-17044 appearing on page 44695 in the issue of Tuesday, July 27, 2004, make the following correction:

On page 44695, in the second column, in the first paragraph, in the sixth line from the bottom, “August 19” should read “August 18”.

[FR Doc. C4-17044 Filed 8-2-04; 8:45 am]

BILLING CODE 1505-01-D

PEACE CORPS

Privacy Act of 1974; Systems of Records

Correction

In notice document 04-16026 beginning on page 42784 in the issue of July 16, 2004, make the following correction:

On page 42784, in the third column, under the heading DATES, in the third line, “July 26, 2004” should read, “September 6, 2004.”

[FR Doc. C4-16026 Filed 8-2-04; 8:45 am]

BILLING CODE 1505-01-D